DEPARTMENT OF HEALTH AND HUMAN SERVICES

National Institutes of Health

National Institute of Mental Health; Amended Notice of Meeting

Notice is hereby given of a change in the meeting of the National Advisory Mental Health Council, May 29, 2015, 8:30 a.m. to May 29, 2015, 5:00 p.m., National Institutes of Health, Neuroscience Center, 6001 Executive Boulevard, Conference Room C/D/E, Rockville, MD, 20852 which was published in the Federal Register on April 29, 2015, 80 FR 23806.

The meeting notice is amended to change the starting time of the Closed Session from 8:30 a.m. to 9:00 a.m. The meeting is partially Closed to the public.

Dated: May 19, 2015.
Carolyn Baum,
Program Analyst, Office of Federal Advisory Committee Policy.

[FR Doc. 2015-12537 Filed 5-22-15; 8:45 am]

BILLING CODE 4140-01-P